DEPARTMENT OF THE TREASURY

Internal Revenue Service

Open Meeting of the Taxpayer Advocacy Panel Multilingual Initiative (MLI) Issue Committee

AGENCY: Internal Revenue Service (IRS), Treasury.

ACTION: Notice.

SUMMARY: An open meeting of the Taxpayer Advocacy Panel Multilingual Initiative (MLI) Issue Committee will be conducted in Brooklyn, NY. The Taxpayer Advocacy Panel is soliciting public comments, ideas, and suggestions on improving customer service at the Internal Revenue Service.

DATES: The meeting will be held Thursday, June 3, 2004, and Friday, June 4, 2004.

FOR FURTHER INFORMATION CONTACT: Inez E. De Jesus at 1-888-912-1227 (toll-free), or 954-423-7977 (non toll-free).

SUPPLEMENTARY INFORMATION: Notice is hereby given pursuant to section 10 (a) (2) of the Federal Advisory Committee Act, 5 U.S.C. App. (1988) that an open meeting of the Taxpayer Advocacy Panel Multilingual Initiative Issue Committee will be held Thursday, June 3, 2004, from 8 a.m. to 12 p.m. and from 1 p.m. to 5 p.m. e.d.t. and Friday, June 4, 2004, from 8 a.m. to 12 p.m. e.d.t. in Brooklyn, NY at 625 Fulton Street, Conference Room 2 C, Brooklyn, NY 11201. For information, or to confirm attendance, notification of intent to attend the meeting must be made with Inez De Jesus. Ms. De Jesus may be reached at 1-888-912-1227 or (954) 423-7977, or write Inez E. De Jesus, TAP Office, 1000 South Pine Island Rd., Suite 340, Plantation, FL 33324, or post comments to the Web site: http://www.improveirs.org.

The agenda will include the following: various IRS issues.

Dated: May 3, 2004.
Bernard Coston,
Director, Taxpayer Advocacy Panel.

[FR Doc. 04-10364 Filed 5-5-04; 8:45 am]

BILLING CODE 4830-01-P